DEPARTMENT OF AGRICULTURE

Agricultural Marketing Service

[Doc. No. AMS-FGIS-25-0021]

U.S. Grain Standards Act Designation Award Notice

AGENCY: Agricultural Marketing Service, USDA.

ACTION: Notice.

SUMMARY: The Agricultural Marketing Service (AMS) is announcing the designations of Keokuk Grain Inspection Service and Ohio Valley Grain Inspection to provide official services under the United States Grain Standards Act (USGSA) in the geographic areas listed in Table 1, below.

FOR FURTHER INFORMATION CONTACT: Kendra Kline, Deputy Director, telephone: 202-690-2410; email: Kendra.C.Kline@usda.gov or FGISQACD@usda.gov.

SUPPLEMENTARY INFORMATION: This notice announces AMS's designation of certain official agencies, or the renewal of their designation, to provide official services at locations other than export port locations (See Table 1). Section 79(f) of the USGSA authorizes the Secretary to designate a qualified applicant to provide official services in a specified area after determining that the applicant is better able than any other applicant to provide such official services. A designated agency may provide official inspection services and/or Class X or Class Y weighing services at locations other than export port locations. Under section 79(g) of the USGSA, designations of official agencies are effective for no longer than five years but may be renewed according to the criteria and procedures prescribed in section 79(f) of the Act. For more information about the designation process, please see 7 CFR 800.196. To view the applications for these areas, please contact FGISQACD@usda.gov.

Table 1—Designated Official Agencies Providing Services at Other Than Export Ports
Official agency | Geographic area | Designation award area descriptions | Designation start | Designation end
Keokuk Grain Inspection Service, Keokuk, Iowa, 319-524-6482 | Keokuk, IA | 81 FR 17428 (03/29/2016) | 04/01/2025 | 03/31/2028
Ohio Valley Grain Inspection, Inc., Evansville, Indiana, 812-423-9010 | Evansville, IN | 80 FR 37581 (07/01/2015) | 08/01/2025 | 07/31/2028

AMS sought applications from interested private and state entities to provide official inspection and weighing services in the geographic areas listed in Tables 1 and 2. AMS also requested comments on the services provided by the official agencies. The requests were published in the Federal Register, and each offered a 30-day comment period from the publication date. AMS did not receive any negative comments regarding the performance of the official agencies. Table 2, below, identifies the editions of the Federal Register in which AMS provided notice of the designation opportunities for the listed geographic areas and requested comments on the listed official agencies.

Table 2—Federal Register Notices Announcing Opportunities for Geographic Areas and Requesting Comments
Official agency | Geographic area | Federal Register
Keokuk Grain Inspection Service | Keokuk, Iowa | 89 FR 58327 (07/18/2024).
Ohio Valley Grain Inspection, Inc | Evansville, Indiana | 90 FR 1937 (01/10/2025).

In accordance with the criteria specified in 7 U.S.C. 79(f)(1)(A) of the USGSA, AMS reviewed and considered performance feedback and data that it collected on the designated agencies (e.g., grading accuracy, equipment testing, equipment monitoring, and adherence to testing protocols for mycotoxins and falling number values) and conducted onsite compliance reviews. As part of these reviews, AMS evaluated: (1) the agencies' past compliance and supervision audit results; (2) quality program performance; (3) stability, quality, and consistency of service; (4) cooperation with FGIS; (5) adequacy of resources; (6) timely service and issuance of certificates; and (7) cost of inspection services. If instances of noncompliance were found, agencies were required to correct the issues before their performance review was finalized. Upon review, AMS has found that Keokuk Grain Inspection Service and Ohio Valley Grain Inspection are qualified to provide official services in the geographic areas specified. Contact information for Keokuk Grain Inspection Service and Ohio Valley Grain Inspection can be found on the AMS public website at https://www.ams.usda.gov/resources/finding-service-provider#Designated%20Private%20Agencies.

Melissa Bailey,
Associate Administrator, Agricultural Marketing Service.

[FR Doc. 2025-16420 Filed 8-26-25; 8:45 am]

BILLING CODE 3410-02-P